DEPARTMENT OF STATE

48 CFR Part 652

[Public Notice 5469]

RIN 1400-AB90

Department of State Acquisition Regulation; Correction

AGENCY: Department of State.

ACTION: Correcting amendments.

SUMMARY: This document contains corrections to the final regulation published in the Federal Register of Friday, June 16, 2006 (71 FR 34836). The regulations related to changes to the Department of State Acquisition Regulation (DOSAR).

DATES: Effective on July 20, 2006.

FOR FURTHER INFORMATION CONTACT: Gladys Gines, 703-516-1691 (not a toll-free call); e-mail: ginesgg@state.gov.

SUPPLEMENTARY INFORMATION:

Background

The final regulations that are the subject of these corrections concerned the application of the Small Business Act to contracts awarded by domestic contracting activities where contract performance takes place overseas; and revised the coverage regarding the Defense Base Act. A new solicitation provision was added at 48 CFR 652.228-70, Defense Base Act—Covered Contractor Employees, and the contract clause and solicitation provision at 652.228-71, Workers' Compensation Insurance (Defense Base Act)—Services, and 652.228-74, Defense Base Act Insurance Rates—Limitation, were revised accordingly.

Need for Correction

As published, the final regulations did not include the dates of the clause and provisions at §§ 652.228-70, 652.228-71, and 652.228-74. Since contract clauses and solicitation provisions are subject to revision from time to time, all clauses and provisions are dated. To avoid confusion concerning which version of any provision or clause is operative in any given solicitation or contract, the date must be included when including clauses and provisions in contracts and solicitations.

List of Subjects in 48 CFR Part 652

Government procurement.

Accordingly, 48 CFR part 652 is corrected by making the following correcting amendments:

PART 652—SOLICITATION PROVISIONS AND CONTRACT CLAUSES

1. The authority citation for part 652 continues to read as follows:

Authority: 40 U.S.C. 486(c); 22 U.S.C. 2658.

652.228-70 [Amended]

2. Amend the date in the heading of the provision at § 652.228-70, Defense Base Act—Covered Contractor Employees, by removing “(MO/YR)” and inserting “(JUN 2006)” in its place.

652.228-71 [Amended]

3. Amend the date in the heading of the clause at § 652.228-71, Workers' Compensation Insurance (Defense Base Act)—Services, by removing “(MO/YR)” and inserting “(JUN 2006)” in its place.

652.228-74 [Amended]

4. Amend the date of the heading of the provision at § 652.228-74, Defense Base Act Insurance Rates—Limitation, by removing the reference “(MO/YR)” and inserting “(JUN 2006)” in its place.

Dated: July 13, 2006.
Kimberly Triplett,
Procurement Analyst, Bureau of Administration, Department of State.

[FR Doc. E6-11558 Filed 7-19-06; 8:45 am]

BILLING CODE 4710-24-P